DEPARTMENT OF HEALTH AND HUMAN SERVICES

Administration for Children and Families

Announcement of Financial Assistance to Expand Head Start Enrollment to Unserved Communities.

AGENCY: Administration on Children, Youth and Families, ACF, DHHS.

ACTION: Correction.

SUMMARY: This document contains a correction to the Notice that was published in the Federal Register on Monday, September 24, 2001.

In Appendix A, add Bloomfield County, Colorado to the list of geographic areas currently unserved by Head Start grantees, and delete Lemhi County, Idaho because it is a served community.

FOR FURTHER INFORMATION CONTACT: The ACYF Operations Center at 1815 N. Fort Myer Drive, Suite 300, Arlington, VA 22209 or telephone: 1-(800)-351-2293, or E. Mail to: ehs@lognet.com.

Dated: October 25, 2001.
James A. Harrell,
Acting Commissioner, Administration on Children, Youth, and Families.

[FR Doc. 01-27375 Filed 10-30-01; 8:45 am]

BILLING CODE 4184-01-M